Title 3—

The President

Proclamation 7585 of August 28, 2002

To Implement an Agreement Regarding Imports of Line Pipe Under Section 203 of the Trade Act of 1974

By the President of the United States of America

A Proclamation

1. On February 18, 2000, pursuant to section 203 of the Trade Act of 1974, as amended (the “Trade Act”) (19 U.S.C. 2253), the President issued Proclamation 7274, which imposed additional duties on certain circular welded carbon quality line pipe (line pipe) provided for in subheadings 7306.10.10 and 7306.10.50 of the Harmonized Tariff Schedule of the United States (HTS) (safeguard measure) for a period of 3 years plus 1 day, with the first 9000 short tons of imports that are the product of each supplying country excluded from the increased duty during each year, and with annual reductions in the rate of duty in the second and third years.

2. Section 203(a)(3)(E) of the Trade Act (19 U.S.C. 2253(a)(3)(E)) authorizes the President to negotiate, conclude, and carry out agreements with foreign countries limiting the export from foreign countries and the import into the United States of an imported article with regard to which the U.S. International Trade Commission has made an affirmative finding regarding serious injury, or the threat thereof. Section 203(f)(1) of the Trade Act (19 U.S.C. 2253(f)(1)) authorizes the President, if action under section 203 takes effect with regard to an imported article, to negotiate agreements of the type described in subsection (a)(3)(E) and, after such agreements take effect, suspend or terminate, in whole or in part, any action previously taken.

3. The United States Trade Representative, pursuant to sections 141(c)(1)(C) and 203(f)(1) of the Trade Act (19 U.S.C. 2171(c)(1)(C) and 2253(f)(1)), negotiated an agreement with the Republic of Korea (Agreement) limiting the export from Korea and import into the United States of line pipe through the imposition of a tariff-rate quota, to take effect on September 1, 2002. The agreement was signed on July 29, 2002.

4. Pursuant to sections 203(a)(3)(E) and 203(f) of the Trade Act (19 U.S.C. 2253(a)(3)(E) and 2253(f)), I am replacing the additional duties and 9000 short ton exclusion applicable to imports of line pipe from Korea with a tariff-rate quota, on a quarterly basis, to take effect beginning on September 1, 2002.

5. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including but not limited to sections 203 and 604 of the Trade Act, do proclaim that:

(1) In order to establish a tariff-rate quota to carry out the Agreement, subchapter III of chapter 99 of the HTS is modified as provided in the Annex to this proclamation.

(2) Any provision of previous proclamations and Executive Orders that is inconsistent with the actions taken in this proclamation is superseded to the extent of the inconsistency.

(3) The modifications to the HTS made by this proclamation shall be effective with respect to goods entered, or withdrawn from warehouse for consumption, on or after 12:01 a.m. eastern daylight time, on September 1, 2002, and shall continue in effect as provided in subchapter III of chapter 99 of the HTS, unless such actions are earlier expressly modified or terminated. Effective at the close of March 1, 2004, or such other date that is 1 year from the close of the safeguard measure, the modifications to the HTS established in this proclamation and by Proclamation 7274 shall be deleted from the HTS.

IN WITNESS WHEREOF, I have hereunto set my hand this twenty-eighth day of August, in the year of our Lord two thousand two, and of the Independence of the United States of America the two hundred and twenty-seventh.

B

Billing code 3195-01-P

[FR Doc. 02-22502

Filed 8-29-02; 11:34 am]

Billing code 3190-01-C